DEPARTMENT OF COMMERCE

National Oceanic and Atmospheric Administration

[I.D. 013004E]

Endangered Species; File No. 1295

AGENCY: National Marine Fisheries Service (NMFS), National Oceanic and Atmospheric Administration (NOAA), Commerce.

ACTION: Correction.

SUMMARY: Notice is hereby given that this corrects the document published on February 5, 2004, announcing that the NMFS Northeast Fisheries Science Center (Responsible Official- Dr. John Boreman), 166 Water Street, Woods Hole, MA 02543-1097, had applied in due form to modify Permit No. 1295 to take additional sea turtles for purposes of scientific research.

DATES: This action is effective February 17, 2004.

ADDRESSES: The application and related documents are available for review upon written request or by appointment in the offices listed in the original document published on February 5, 2004.

FOR FURTHER INFORMATION CONTACT: Patrick Opay, (301)713-1401 or Ruth Johnson, (301)713-2289.

SUPPLEMENTARY INFORMATION: The last sentence of the last paragraph under SUPPLEMENTARY INFORMATION in document 69 FR 5508 is revised to read as follows, “The research will be conducted in the shelf waters of the Atlantic Ocean from the Gulf of Maine to Florida.”

Dated: February 10, 2004.
Stephen L. Leathery,
Chief, Permits, Conservation and Education Division, Office of Protected Resources, National Marine Fisheries Service.

[FR Doc. 04-3395 Filed 2-13-04; 8:45 am]

BILLING CODE 3510-22-S